DEPARTMENT OF COMMERCE

Foreign-Trade Zones Board

[S-172-2024]

Foreign-Trade Zone 40; Application for Subzone; Permco, Inc.; Montville and Streetsboro, Ohio

An application has been submitted to the Foreign-Trade Zones (FTZ) Board by the Cleveland Cuyahoga County Port Authority, grantee of FTZ 40, requesting subzone status for the facilities of Permco, Inc., located in Montville and Streetsboro, Ohio. The application was submitted pursuant to the provisions of the Foreign-Trade Zones Act, as amended (19 U.S.C. 81a-81u), and the regulations of the FTZ Board (15 CFR part 400). It was formally docketed on September 30, 2024.

The proposed subzone would consist of the following sites: Site 1 (2.33 acres) 1500 Frost Road, Streetsboro; and Site 2 (0.54 acres) 16445 Gar Highway, Montville. No authorization for production activity has been requested at this time. The proposed subzone would be subject to the existing activation limit of FTZ 40.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is November 13, 2024. Rebuttal comments in response to material submitted during the foregoing period may be submitted during the subsequent 15-day period to November 29, 2024.

A copy of the application will be available for public inspection in the “Online FTZ Information Section” section of the FTZ Board's website, which is accessible via www.trade.gov/ftz.

For further information, contact Juanita Chen at juanita.chen@trade.gov.

Dated: September 30, 2024.
Elizabeth Whiteman,
Executive Secretary.

[FR Doc. 2024-22941 Filed 10-3-24; 8:45 am]

BILLING CODE 3510-DS-P